DEPARTMENT OF ENERGY

Western Area Power Administration

Valley Electric Association Interconnection of Ivanpah Energy Center to Mead Substation (DOE/EIS-0354)

AGENCY: Western Area Power Administration, DOE.

ACTION: Record of decision.

SUMMARY: The Department of the Interior, Bureau of Land Management (BLM), prepared an Environmental Impact Statement (EIS) evaluating the construction, operation and maintenance of the Ivanpah Energy Center (IEC) power plant and ancillary facilities. The project would provide 500 megawatts (MW) of baseload power to the southern Nevada power grid. As a cooperating agency for the EIS, the Department of Energy's (DOE) Western Area Power Administration (Western) considered the environmental impacts of the Ivanpah Energy Center Project (Project) and the interconnection to Western's Mead Substation. Western specifically evaluated proposed modifications to facilities at the substation. The modifications are necessary to accommodate the new Valley Electric Association (VEA) 230-kilovolt (kV) transmission line interconnection for this new source of electric power. Western adopted the BLM EIS on May 28, 2003. This Record of Decision (ROD) announces Western's decision to grant the VEA interconnection request. Western will ensure that its responsibilities under the National Historic Preservation Act and the Endangered Species Act are met before the interconnection is implemented.

FOR FURTHER INFORMATION CONTACT: Mr. John Holt, Environmental Manager, Desert Southwest Customer Service Region, Western Area Power Administration, P.O. Box 6457, Phoenix, AZ 85005, telephone (602) 352-2592, E-mail holt@wapa.gov. Copies of the EIS and the BLM Record of Decision are available from Jerry Crockford, Project Manager, BLM Farmington Field Office, 1235 La Plata Hwy, Suite A, Farmington, NM 87401, telephone (505) 599-6333, E-mail jcrockford@nm.blm.gov. For information about the DOE National Environmental Policy Act (NEPA) process, contact Carol M. Borgstrom, Director, NEPA Policy and Compliance, EH-42, U.S. Department of Energy, 1000 Independence Avenue SW., Washington, DC 20585, telephone (202) 586-4600 or (800) 472-2756.

SUPPLEMENTARY INFORMATION: The BLM is the lead agency for the IEC EIS (Final EIS dated May 2003). Western requested to be, and was designated, a cooperating agency for the IEC EIS on October 2, 2002. The EIS addresses the effects of the Project, including modification of Western's transmission system. After an independent review of the EIS, Western concluded that its comments and suggestions had been satisfied and subsequently adopted the IEC EIS as its own under 40 CFR part 1506.3. Western's EIS document number is DOE/EIS-0354.

Project Purpose and Need

The Project is designed to provide electric power to the southern Nevada power grid. Currently, demand in the southwestern United States exceeds capacity and continues to increase. Peak demand energy requirements for the Arizona-New Mexico-southern Nevada Power Area are projected to grow at an annual compound rate of 3.3 percent between 2000 and 2010. Annual energy requirements for the period are expected to increase at a compound rate of 3.4 percent according to North American Electric Reliability Council projections. The Project action alternatives considered in the EIS would partially satisfy this projected need.

Description of Alternatives

The Draft EIS evaluated two alternative plant sites, four alternative transmission line alignments, and the No Action Alternative. The Primm Plant site was selected as the environmentally preferred alternative. However, this alternative became commercially unavailable to the Project proponent after the Draft EIS was published. The Final EIS, therefore, evaluated only the proposed alternative plant site (Goodsprings Site) and two associated alternative transmission line alignments, plus the No Action Alternative.

The proposed alternative is located entirely within Clark County, Nevada, and primarily on BLM land, within a BLM utility corridor, or on Western withdrawn land. The alternative principally consists of a 30-acre (permanent disturbance) site for the generation plant southeast of the town of Goodsprings, Nevada, and a new 230-kV transmission line to Western's Mead Substation.

The plant design is a 500-MW, natural gas-fired, combined-cycle, dry- and refrigeration-cooled, baseload electrical power generation station, as described in the EIS. Associated Project components include an onsite power substation, transmission line interconnection for the proposed Table Mountain Wind Generation Facility, fiber optic ground wires, natural gas pipeline, water treatment plant, water supply pipeline, telecommunications cable, and necessary temporary and permanent access roads.

Two alternative transmission line alignments were considered, Alternatives C and E. Both include interconnecting with the existing VEA 230-kV Pahrump-to-Mead transmission line at the Goodsprings power plant site and constructing a new Goodsprings-to-Mead 230-kV line. Alternative E would generally follow or parallel the existing Pahrump-to-Mead line and right-of-way southeast across the Ivanpah Valley, then northeast across the McCullough Mountain Range and the Eldorado Valley to Mead Substation (approximately 47.5 miles). Alternative C deviates from Alternative E only along one line segment that remains on the west side of Eldorado Valley before crossing to Mead Substation (approximately 47.8 miles). Regardless of the transmission line alternative, the interconnection at Western's Mead Substation will require constructing a new transmission line within the same alignment across Western's withdrawn lands, and modifying the 230-kV area of the substation.

The No Action Alternative would preclude construction and operation of the proposed power plant, transmission line, and other Project components. Existing conditions would remain unchanged. No environmental impacts are associated with the No Action Alternative, but the generation, transmission, and end use of the proposed electric power would be unavailable to potential users of the southern Nevada power grid.

Western's Decision

The BLM released its Project ROD on October 23, 2003, granting BLM rights-of-way for the Goodsprings Alternative plant site and Alternative E transmission line alignment. Based on the need for the Project and the results of the EIS, Western's decision is to grant the interconnection request for the VEA transmission line component of the Project. Western will facilitate the VEA 230-kV Alternative E transmission line approach across Western's withdrawn lands to Mead Substation and modify current substation configuration to accommodate the requested interconnection in the southeast portion of the 230-kV area within the Mead Substation. The No Action Alternative was not selected because it would not meet the defined purpose and need for the Project. Nor would this alternative allow Western to meet its obligations to VEA, as defined by Western's General Requirements for Interconnections and Western's obligations to provide interconnection under Section 211 of the Federal Power Act.

Mitigation Measures and Commitments

The Final EIS identified mitigation measures needed to reduce Project impacts. Specific measures are discussed in Section 1.3 on pages 1-2 to 1-6 of the Final EIS. Additional mitigation measures and standard practices are provided in the BLM Construction, Operations and Maintenance Plan.

The EIS impact analysis concluded that, with mitigation measures, most impacts from the selected Project alternative would not be significant. The only significant and unavoidable impacts of the Project are to Category B (medium population density) desert tortoise habitat. These impacts are associated with construction at the plant site, telecommunication lines, access roads, water supply line, and transmission lines. Significant impacts would result from direct incidental take during construction or operation, habitat fragmentation, introduction of nonnative plant species, soil compaction, and increased public access to the Project area.

The BLM provided a biological assessment outlining Project impacts to the U.S. Fish and Wildlife Service (FWS). In response, the FWS issued a Biological Opinion for the Project dated October 17, 2003. Western's decision is to grant the VEA interconnection request. However, the grant is issued with the condition that the Project must comply with the terms and conditions recommended in the FWS Final Biological Opinion to avoid, minimize, or mitigate any Project impacts to biological resources. Western will ensure that its responsibilities under the Endangered Species Act are met before the transmission system modifications are implemented.

The BLM has consulted with the State Historic Preservation Office and Native American Tribes. A Programmatic Agreement (PA) and treatment plan were developed to avoid, minimize, and mitigate adverse effects to historical and cultural properties. Western is a signatory to the PA and will ensure that its responsibilities under the PA and the National Historic Preservation Act are met before the action is implemented.

Western contacted 26 Native American Tribes during the Final EIS 30-day waiting period to ensure it satisfied Nation-to-Nation consultation requirements regarding the Project. Western received no response to its inquiries and no additional action is required.

The Project area does intersect 100-year floodplains in a few locations, but individual and cumulative floodplain impacts associated with transmission line structure location and construction are negligible. There are no wetlands affected by the Project. However, Western will require appropriate measures to minimize any potential impacts.

Western is adopting those mitigation measures that apply to its action, the interconnection and authorization for use of its withdrawn land for the 230-kV transmission line, and will issue a Mitigation Action Plan before any construction activity takes place. The Plan will address the adopted and standard mitigation measures. When completed, the Mitigation Action Plan will be made available to the public.

Compliance With Regulations

This ROD has been prepared following Council on Environmental Quality 1 regulations for implementing NEPA (40 CFR parts 1500-1508) and DOE Procedures for Implementing NEPA (10 CFR part 1021).

Dated: November 18, 2003.
Michael S. Hacskaylo,
Administrator.

[FR Doc. 03-29566 Filed 11-25-03; 8:45 am]

BILLING CODE 6450-01-P